DEPARTMENT OF TRANSPORTATION

Federal Highway Administration

Environmental Impact Statement: Multiple Counties, New York, and New Jersey

AGENCY: Federal Highway Administration (FHWA), USDOT.

ACTION: Revised Notice of Intent (NOI).

SUMMARY: The Federal Highway Administration (FHWA) and the Port Authority of New York and New Jersey (PANYNJ) are issuing this Revised Notice of Intent (NOI) to advise the public of modifications to the environmental review process for the Cross Harbor Freight Movement Program (Project Identification Number: X500.19). These revisions include a change in project sponsorship to the PANYNJ, the intent of FHWA and PANYNJ to use a tiered process to facilitate project decision-making, and the intent of FHWA and PANYNJ to utilize the environmental review provisions afforded under Section 6002 of the Safe, Accountable, Flexible, Efficient Transportation Equity Act: A Legacy for Users (SAFETEA-LU). This notice revises the NOI that was published in the Federal Register on June 7, 2001.

The greater New York/New Jersey region is the financial center of the U.S. economy and the nation's largest consumer market. The regional economy relies on a goods movement system overwhelmingly dependent on trucking and an aging and congested highway network. Regional forecasts of truck growth vary depending on the source, year, and geography, but available sources agree that truck tonnage is anticipated to increase substantially, with some forecasts calling for a 36% increase in tonnage by 2035. In the absence of network or system improvements, this growth and the region's dependence on trucking for freight distribution will result in serious regional highway congestion and extended travel delays—a trend which could threaten the economic vitality of the greater New York/New Jersey region.

The EIS will analyze alternatives that would provide short-term and long-term strategies for improving the regional freight network, reducing traffic congestion, enhancing modal diversity and system redundancy, improving air quality, and providing economic benefits. The FHWA and PANYNJ are serving as joint-lead agencies for the preparation of the EIS and are issuing this notice to solicit public and agency input into the scope of the EIS and to advise the public that outreach activities will be conducted by FHWA and PANYNJ. New York State and New Jersey Departments of Transportation (NYSDOT and NJDOT) are serving as cooperating agencies for the preparation of the EIS.

The EIS analyses will be conducted using “tiering,” as described in 40 CFR 1508.28, which is a staged process applied to the environmental review of complex projects. Tier I of the EIS will allow the agencies to focus on general transportation modes and alignments for the proposed project, including logical termini and regional economic and transportation effects. Tier I of the EIS will include: A logistics and market demand analysis; a rail and highway operations and multimodal networks analysis; an economic and financial analysis; a capital investment estimation; an operations and maintenance cost estimation for each alternative; a transportation analysis; conceptual design criteria; general environmental impact assessments; and a data needs list for the preparation for Tier II analyses and preliminary design. Tier I of the EIS will result in a Record of Decision (ROD) that will identify the transportation mode or a combination of modes and alignments for the proposed project, with the appropriate level of detail for corridor-level decisions, or select the NEPA “No Action Alternative.”. The ROD will also outline measures that are intended to avoid, minimize, or mitigate adverse impacts from the build alternatives. Tier II of the EIS will then further explore in greater detail those alternatives which fulfill the project purpose within the mode and alignment chosen in Tier I and will include analysis of refined engineering designs and their site-specific environmental impacts, development of site-specific mitigation measures, and cost estimates for the preferred alternatives. Input from the public and from reviewing agencies will be solicited during both tiers.

The EIS will be prepared in accordance with the provisions of the National Environmental Policy Act (NEPA; 42 U.S.C. 4321 et seq.) of 1969 and all applicable regulations implementing NEPA, as set forth in 23 CFR part 771. The EIS will also address the provisions of Section 6002 of Public Law 104-59, “The Safe, Accountable, Flexible, Efficient Transportation Equity Act: A Legacy for Users (SAFETEA-LU).”

FOR FURTHER INFORMATION CONTACT: Mr. Jeffrey W. Kolb, Division Administrator, Federal Highway Administration, New York Division, Leo W. O'Brien Federal Building, 7th Floor, Clinton Avenue and North Pearl Street, Albany, NY 12207, Telephone: (518) 431-4127; or Ms. Laura Shabe, Manager, Cross Harbor Freight Program, Port Commerce Department, Port Authority of New York and New Jersey, 225 Park Avenue, South, 11th Floor, New York, NY 10003, Telephone: (212) 435-4441.

SUPPLEMENTARY INFORMATION: Several previous studies have been conducted to examine possible alternatives to improve freight movement across the Hudson River and New York Harbor. The Cross Harbor Freight Movement Major Investment Study (MIS) commissioned by the New York City Economic Development Corporation (NYCEDC) and completed in the spring of 2000, identified alternatives and strategies to improve regional freight mobility, expand shippers' choices of route and mode, enhance the region's environmental quality, and promote regional economic development. Fifteen alternatives, involving highway, rail, waterborne, and air systems, were initially evaluated, and the most promising strategies were advanced to a subsequent phase of refinement and evaluation. Four alternatives were advanced for study in a Draft EIS, which was published in April 2004 by FHWA and the Federal Railroad Administration (FRA), acting as co-lead agencies, and the NYCEDC, acting as the project sponsor. The 2004 Draft EIS considered: A No Action Alternative; a Transportation Systems Management (TSM) Alternative; an Expanded Float Operations Alternative, which involved the expansion of capacity for the existing railcar float system across New York Harbor; and a Rail Freight Tunnel Alternative with two possible alignments. Following publication of the 2004 Draft EIS, the PANYNJ, as the region's bi-state transportation agency, and the agency that controls most of the east-west connections between New York and New Jersey, accepted the role of project sponsor. The PANYNJ's mission to identify and meet critical, bi-state transportation infrastructure needs uniquely positions the agency to direct the Cross Harbor Freight Movement Program.

Scoping: To assure that the full range of issues related to the proposed action is addressed and all significant issues are identified, the PANYNJ will undertake an extensive public scoping process that will invite the public and affected agencies to provide comments on the scope of the environmental review process. A Draft Scoping Document will be prepared that will outline the project purpose and need, the primary and secondary study areas, alternatives that will be studied in Tier I of the EIS, and the methodologies by which environmental impacts will be assessed. The PANYNJ will lead outreach activities during the public scoping process and will conduct a series of meetings to discuss the Draft Scoping Document and the proposed scope of the EIS. To encourage public participation, public scoping meetings will be held in New York and in New Jersey. The public scoping meetings will be advertised separately. To adhere to the requirements of SAFETEA-LU, the lead agencies will send letters inviting agencies with an interest in or jurisdiction over the project to become involved as participating or cooperating agencies.

Purpose and Need for the Proposed Project: The greater New York/New Jersey region is the financial center of the U.S. economy, the nation's largest consumer market, and a major hub of entertainment, services, fashion, and culture. Consequently the region receives, processes, and distributes a significant amount of goods from all over the nation and the world. In 2007, an estimated 1.1 billion tons of freight were moved by truck into, out of, within, and through the 54-county region surrounding New York City and Long Island (including northern and central New Jersey, western and southern Connecticut, and portions of southern New York and eastern Pennsylvania). By 2035, this demand is projected to increase to more than 1.5 billion tons as a result of forecasted growth in employment, personal income, and economic activity, creating unprecedented pressure on the region's transportation infrastructure.

The region's ability to serve its markets is increasingly threatened by its heavy reliance on trucking goods over an aging and congested roadway network, while non-highway freight modes, particularly rail and waterborne, remain underdeveloped and underutilized. In addition, the flow of freight in the region is complicated by the historic physical barrier of the Hudson River and New York Harbor, which separates the large consumer markets of New York City, Long Island, and New England (east of the Hudson River) from the nation's major centers of agricultural and industrial production, and the region's major freight facilities and distribution centers (west of the Hudson River).

Given the existing system, forecasted increases in freight demand translate directly into increased truck traffic in the freight distribution network. This will result in serious highway congestion, particularly on a number of regionally important and heavily used network connectors including the Verrazano-Narrows Bridge between Brooklyn and Staten Island, and the George Washington Bridge between Manhattan and New Jersey. Currently, the George Washington Bridge carries an average of approximately 300,000 vehicles per day, and the Verrazano-Narrows Bridge carries an average of 195,000 per day. According to the New York Metropolitan Transportation Council's (NYMTC) Draft 2009 Congestion Management Process Status Report, current vehicle demand on these two major east-west crossings already outweighs capacity, and their level of service will continue to worsen through 2035.

Tier I of the EIS will focus on goods movement throughout the greater New York/New Jersey region, including the major freight movement corridors leading to the Hudson River crossings identified above. Routes I-278, I-495, I-95, a number of highways serving northern New Jersey (such as New Jersey Turnpike/I-95, I-78, I-80, and I-287), and many state and local routes that are critical for local pickup and delivery activities, will be included in the EIS study area. The EIS will also investigate major freight rail lines and facilities west of the Hudson River (such as a variety of lines within the Conrail Shared Assets Area, the CSX River Line, the Norfolk Southern Lehigh Line, Chemical Coast Line and important rail yards at Croxton, Kearny, Oak Island, Greenville, Port Newark/Elizabeth in New Jersey) and strategic rail assets east of the Hudson River which may require improvements and/or capacity enhancement. Conditions at area marine terminals and airports will also be included in the Tier I EIS study area.

The primary purpose of the project is to improve the movement of freight in the region by enhancing freight movement across New York Harbor between the east-of-Hudson and west-of-Hudson sub-regions. Project goals, which will be refined during scoping with input from the public, elected officials, interested agencies and organizations will support the primary purpose and could include: A reduction in travel time for freight movement between the sub-regions; an increase in cross-harbor freight movement capacity; congestion relief on the major freight corridors associated with the Hudson River crossings; and an increase in the modal diversity of regional freight movement. Secondary purposes could include enhanced economic efficiency of the greater New York/New Jersey region through improved goods movement; a more environmentally beneficial and sustainable goods movement system; and the addition of strategic redundancy to existing Hudson River and interborough crossings.

Project Alternatives: A comprehensive set of alternatives will be developed and refined during the public scoping process, with input from stakeholders. Each alternative will then be evaluated for its ability to meet the project's goals, which are derived from the project's purpose and need. The EIS will consider a No Action Alternative, a TSM Alternative (which could include the repair or upgrade of existing float bridges and scheduling improvements to allow both freight traffic and passenger service to utilize the region's rail lines), and several build alternatives that will be designed to take advantage of under-utilized freight movement modes, such as regional and local rail networks and waterborne transport. The No Action Alternative will include planned upgrades to existing infrastructure, such as the full acquisition of the Greenville Yard Rail Float Facility, the rehabilitation of New York New Jersey Rail Float Operations and Assets, and committed and programmed improvements to New York City and Long Island rail lines and rail yards. The basic build alternatives may include an expanded railcar float alternative, several versions of a tunnel alternative, and a combination railcar float/tunnel alternative. In addition to evaluating multiple build alternatives, the EIS will consider variations of each build alternative that will analyze locating new or expanded rail yards that may be required for the proposed project.

Probable Effects of the Project Alternatives: The FHWA and PANYNJ will evaluate potential impacts from the proposed alternatives on: Transportation and traffic engineering; land use and social conditions; economic conditions; cultural and visual resources; air quality; noise; water and natural resources; energy and greenhouse gases; contaminated and hazardous materials; coastal zone management; environmental justice; section 4(f) of the U.S. Department of Transportation (USDOT) Act of 1966; and any indirect, secondary, or cumulative impacts. The Tier I of the EIS will include a general qualitative assessment of each of these environmental issues.

Environmental Review Procedures: The EIS will be prepared in accordance with the provisions of the National Environmental Policy Act (NEPA; 42 U.S.C. 4321 et seq.) of 1969 and applicable FHWA regulations implementing NEPA, as set forth in 23 CFR part 771. In addition, the EIS will comply, as necessary, with Federal Transportation Conformity regulations (40 CFR parts 51 and 93); the National Historic Preservation Act; Section 4(f) of the U.S. Department of Transportation Act of 1966 (49 U.S.C. 303); Executive Order 12898, “Federal Actions to Address Environmental Justice in Minority Populations and Low-Income Populations;” the Clean Water Act (33 U.S.C. 1251 to 1387); Executive Order 11990 (“Protection of Wetlands”); the Clean Air Act of 1970; and other applicable Federal and State laws and regulations.

Tiered EIS: “Tiering,” as described in 40 CFR 1508.28, is a staged process, applied to the environmental review of complex projects. A tiered EIS will allow the lead agencies to focus on broad, overall corridor issues, such as mode choice, general alignment, logical termini, and regional effects, within the Tier I EIS.

Tier I of the EIS will include the following:

• The development of comprehensive alternatives, designed to meet the goals of the Cross Harbor Freight Movement Program;

• Logistics and market demand, including the locations and capacities of intermodal facilities and warehouse/distribution clusters that could potentially benefit from the proposed project;

• Rail and highway operations and multimodal networks, including potential impacts on regional rail networks;

• Economic and financial analysis, including: economic impact analysis; market feasibility analysis; railroad financial analysis; cash flow analysis; and funding needs analysis;

• Capital investment estimation, to determine costs associated with the construction of the infrastructure required for each proposed alternative;

• Operations and maintenance cost estimation for each proposed alternative;

• Traffic screening analysis to determine whether the proposed project may result in significant traffic impacts on the road network leading to and from any proposed or existing rail yard site;

• Conceptual design criteria, such as right-of-way requirements, engineering requirements, and potential permits and approvals;

• Environmental impact assessments, including transportation and traffic engineering; land use and social conditions; economic conditions; historic, cultural and visual resources; air quality; noise and vibration; water and natural resources; energy and greenhouse gases; contaminated and hazardous materials; construction impacts; coastal zone management; environmental justice; Section 4(f) of the U.S. Department of Transportation (USDOT) Act of 1966; and any indirect, secondary, or cumulative effects; and

• A general assessment of site conditions to identify gaps in the coverage and the need for additional data in preparation for Tier II analyses and preliminary design.

Tier I of the EIS will result in a Record of Decision (ROD) that will identify the transportation mode and alignment for the proposed project with the appropriate level of detail for corridor-level decisions, or select the No Action Alternative. The Tier I EIS will also include a discussion of measures that could be implemented to avoid, minimize, or mitigate potential adverse impacts of the build alternatives. These measures would be developed to mitigate both short-term (construction phase) and long-term (operational) adverse impacts of the proposed build alternatives. The mitigation strategies that will be examined will be designed to specifically minimize any potential adverse effects on the local communities where new or expanded infrastructure is proposed or where the operational effects of increased freight movement are expected. Tier II will then further explore the selected alternative in greater detail to evaluate regional and localized environmental impacts and outline site-specific mitigation measures in project-level environmental documentation. The PANYNJ and FHWA intend to engage the community in devising mitigation measures for potential adverse impacts at both tiers of the EIS. The scope of the Tier I and Tier II analyses will be commensurate with the level of detail necessary for those documents. Input from the public and from reviewing agencies will be solicited during both tiers.

SAFETEA-LU: SAFETEA-LU provisions and NEPA regulations, in general, call for public involvement in the EIS process. Section 6002 of SAFETEA-LU requires that agencies: (1) Extend an invitation to other Federal and non-Federal agencies and Indian tribes that may have an interest in the proposed project to become “participating agencies;” (2) provide an opportunity for involvement by participating agencies and the public in helping to define the purpose and need for the proposed project, as well as the range of alternatives for consideration in the impact statement; and (3) establish a plan for coordinating public and agency participation in and comments on the Scoping Document. Letters will be sent to any agency with a fiduciary, regulatory, or permitting authority over the program as an invitation to be part of the coordination process. Any interested Federal or non-Federal agency or Indian tribe that does not receive an invitation to become a participating agency can notify the contact persons listed above.

A Coordination Plan will be developed to facilitate and document the lead agencies' structured interaction with the public and other agencies, and to inform the public and other agencies of the manner in which the coordination will be accomplished. The Coordination Plan prepared for the Cross Harbor Freight Movement Program will include: The Plan Purpose and Identification of Lead Agencies; Program History; List of Participating and Coordinating Agencies; Roles and Responsibilities of the Lead, Participating, and Coordinating Agencies; Agency Contact Information; Coordination Points; and the Program Schedule.

Comments or questions regarding this Notice of Intent should be directed to the FHWA or PANYNJ contacts identified above.

(Catalog of Federal Domestic Assistance Program Number 20.205, Highway Research Planning and Construction. The regulations implementing Executive Order 12372, regarding intergovernmental consultation on Federal programs and activities apply to this program.)

Issued on: April 23, 2010.
Jeffrey W. Kolb,
Division Administrator, Federal Highway Administration, Albany, New York.

[FR Doc. 2010-11452 Filed 5-12-10; 8:45 am]

BILLING CODE 4910-22-P